FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other agencies to take this opportunity to comment on proposed information collection. In accordance with the Paperwork Reduction Act of 1995 (44 U.S.C. 3506(c)(2)(A)), this notice seeks comments concerning Reimbursement for Cost of Firefighting on Federal Property.

SUPPLEMENTARY INFORMATION: This collection of information is necessary in order to reimburse fire services for claims submitted for fighting fires on property, which is under the jurisdiction of the United States. Such claims are authorized by Section 11, of the Federal Fire Prevention and Control Act of 1974 (Public Law 93-498, 88 Stat. 1535, 15 U.S.C. 2201 et seq.). Section 11 of the Act is implemented by FEMA regulations 44 CFR part 151.

Collection of Information:

Title: Reimbursement for Cost of Fighting Fire on Federal Property.

Type of Information Collection: Extension of a currently approved collection.

OMB Number: 3067-0141.

Abstract: The collection of information is required in order to reimburse fire services for claims submitted for fighting fires on property, which is under the jurisdiction of the United States and to determine the amount authorized for payment. The FEMA Director, the United States Fire Administration Administrator, and the U.S. Department of Treasury will use the information to ensure proper expenditure of Federal funds.

Affected Public: Business or Other For-Profit, Not-For-Profit Institutions, State, Local or Tribal Government.

Number of Respondents: 16.

Frequency of Response: On Occasion.

Hours Per Response: 1.5.

Estimated Total Annual Burden Hours: 24 hours.

Estimated Cost: The estimated reimbursable amount is determined by the extent to which the fire service incurred additional firefighting costs, over and above its normal operating costs, in connection with the fire, which is the subject of a claim.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact Timothy Ganley, Fire Program Specialist, U.S. Fire Administration, (301) 447-1358 for additional information. You may contact Ms. Anderson for copies of the proposed collection of information at telephone number (202) 646-2625 or facsimile number (202) 646-3347 or e-mail InformationCollection@fema.gov.

Dated: August 29, 2002.
Reginald Trujillo,
Branch Chief, Program Services and Systems Branch, Facilities Management and Services Division, Administration and Resource Planning Directorate.

[FR Doc. 02-23559 Filed 9-16-02; 8:45 am]

BILLING CODE 6718-01-P